SMALL BUSINESS ADMINISTRATION

[Disaster Declaration #21102 and #21103; KENTUCKY Disaster Number KY-20020]

Presidential Declaration Amendment of a Major Disaster for the Commonwealth of Kentucky

AGENCY: U.S. Small Business Administration.

ACTION: Amendment 2.

SUMMARY: This is an amendment of the Presidential declaration of a major disaster for the Commonwealth of Kentucky (FEMA-4875-DR), dated May 23, 2025.

Incident: Severe Storms, Straight-line Winds, and Tornadoes.

DATES: Issued on July 29, 2025.

Incident Period: May 16, 2025, through May 17, 2025.

Physical Loan Application Deadline Date: August 22, 2025.

Economic Injury (EIDL) Loan Application Deadline Date: July 23, 2026.

ADDRESSES: Visit the MySBA Loan Portal at https://lending.sba.gov to apply for a disaster assistance loan.

FOR FURTHER INFORMATION CONTACT: Sharon Henderson, Office of Disaster Recovery & Resilience, U.S. Small Business Administration, 409 3rd Street SW, Suite 6050, Washington, DC 20416, (202) 205-6734.

SUPPLEMENTARY INFORMATION: The notice of the President's major disaster declaration for the Commonwealth of Kentucky, dated May 23, 2025, is hereby amended to extend the deadline for filing applications for physical damages as a result of this disaster to August 22, 2025.

All other information in the original declaration remains unchanged.

(Catalog of Federal Domestic Assistance Number 59008)

(Authority: 13 CFR 1234.3(b).)

James Stallings,
Associate Administrator Office of Disaster Recovery & Resilience.

[FR Doc. 2025-14513 Filed 7-30-25; 8:45 am]

BILLING CODE 8026-09-P